NUCLEAR REGULATORY COMMISSION

[NRC-2018-0176]

Proposed Revisions to SRPs 2.3.3, Onsite Meteorological Measurements Program; 2.4.6, Tsunami Hazards; and 2.4.9, Channel Migration or Diversion

AGENCY: Nuclear Regulatory Commission.

ACTION: Standard review plan—draft section revision; reopening of comment period.

SUMMARY: On September 28, 2018, the U.S. Nuclear Regulatory Commission (NRC) published a request for public comment on draft NUREG-0800, “Standard Review Plan for the Review of Safety Analysis Reports for Nuclear Power Plants: LWR Edition,” Standard Review Plans (SPRs) 2.3.3, “Onsite Meteorological Measurements Program”; 2.4.6, “Tsunami Hazards”; and 2.4.9, “Channel Migration or Diversion.” The public comment period was originally scheduled to close on October 29, 2018. The NRC has decided to reopen the public comment period on these documents for 30 days to allow more time for members of the public to develop and submit comments.

DATES: The comment period for the document published on September 28, 2018 (83 FR 49132) has been reopened. Comments must be filed no later than December 17, 2018. Comments received after this date will be considered, if it is practical to do so, but the Commission is able to ensure consideration only for comments received on or before this date.

ADDRESSES: You may submit comments by any of the following methods:

• Federal Rulemaking website: Go to http://www.regulations.gov and search for Docket ID NRC-2018-0176. Address any questions about NRC Docket IDs in Regulations.gov to Jennifer Borges; telephone: 301-287-9127; email: Jennifer.Borges@nrc.gov. For technical questions, contact the individual listed in the FOR FURTHER INFORMATION CONTACT section of this document.

• Mail comments to: May Ma, Office of Administration, Mail Stop: TWFN 7 A60M, U.S. Nuclear Regulatory Commission, Washington, DC 20555-0001.

For additional direction on obtaining information and submitting comments, see “Obtaining Information and Submitting Comments” in the SUPPLEMENTARY INFORMATION section of this document.

FOR FURTHER INFORMATION CONTACT: Mark D. Notich, Office of New Reactors, telephone: 301-415-3053; email: Mark.Notich@nrc.gov; U.S. Nuclear Regulatory Commission, Washington, DC 20555-0001.

SUPPLEMENTARY INFORMATION:

I. Obtaining Information and Submitting Comments

A. Obtaining Information

Please refer to Docket ID NRC-2018-0176 when contacting the NRC about the availability of information for this action. You may obtain publicly-available information related to this action by any of the following methods:

• Federal Rulemaking website: Go to http://www.regulations.gov and search for Docket ID NRC-2018-0176.

• NRC's Agencywide Documents Access and Management System (ADAMS): You may obtain publicly-available documents online in the ADAMS Public Documents collection at http://www.nrc.gov/reading-rm/adams.html. To begin the search, select “Begin Web-based ADAMS Search.” For problems with ADAMS, please contact the NRC's Public Document Room (PDR) reference staff at 1-800-397-4209, 301-415-4737, or by email to pdr.resource@nrc.gov. NRC's PDR: You may examine and purchase copies of public documents at the NRC's PDR, Room O1-F21, One White Flint North, 11555 Rockville Pike, Rockville, Maryland 20852.

B. Submitting Comments

Please include Docket ID NRC-2018-0176 in your comment submission.

The NRC cautions you not to include identifying or contact information that you do not want to be publicly disclosed in your comment submission. The NRC will post all comment submissions at http://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Further Information

On September 28, 2018 (83 FR 49132), the NRC published a request for public comment on draft NUREG-0800, “Standard Review Plan for the Review of Safety Analysis Reports for Nuclear Power Plants: LWR Edition,” Standard Review Plans (SRPs) 2.3.3, “Onsite Meteorological Measurements Program”; 2.4.6, “Tsunami Hazards”; and 2.4.9, “Channel Migration or Diversion” (ADAMS Accession No. ML18207A487). These sections have been developed to assist NRC staff in reviewing applications submitted per the requirements under parts 50 and 52 of title 10 of the Code of Federal Regulations (10 CFR).

III. Availability of Documents

The documents identified in the following table are available to interested persons through the ADAMS Public Documents collection, as indicated.

Document | ADAMS Accession Number
Slide Presentation from October 22, 2018 public meeting on SRPs 2.3.3, 2.4.6, 2.4.9, and 2.5.3 | ML18292A592.
Draft NUREG-0800, Section 2.4.6, “Tsunami Hazards” | ML18190A200.
Current Revision of NUREG-0800, Section 2.4.6, “Tsunami Hazards” | ML070160659.
Draft revision to NUREG-0800, Section 2.4.9, “Channel Migration or Diversion” | ML18190A201.
Current revision to NUREG-0800, Section 2.4.9, “Channel Migration or Diversion” | ML070730434.
The redline-strikeout version comparing the Revision 4 of Draft NUREG-0800, Section 2.4.6, “Tsunami Hazards” and the current version of Revision 3 | ML18267A055.
The redline-strikeout version comparing the draft Revision 4 of Draft revision to NUREG-0800, Section 2.4.9, “Channel Migration or Diversion” and the current version of Revision 3 | ML18264A035.
Draft NUREG-0800, Section 2.3.3, “Onsite Meteorological Measurements Program” | ML18183A446.
Current Revision NUREG-0800, Section 2.3.3, “Onsite Meteorological Measurements Program” | ML063600394.
The redline-strikeout version comparing the draft Revision 4 of Draft revision to NUREG-0800, Section 2.3.3, “Onsite Meteorological Measurements Program” and the current version of Revision 3 | ML18267A076.

The public comment period for SRPs 2.3.3, 2.4.6, and 2.4.9 originally closed on October 29, 2018. The NRC held a public meeting on October 22, 2018 during which technical issues precluded public participation via webinar. Accordingly, the NRC has decided to reopen the public comment period on these documents to allow more time for members of the public to read the meeting transcript and assemble and submit their comments. The public meeting was transcribed, and the transcription is available on ADAMS at ML18303A102. In addition, the slides presented during the meeting are available on ADAMS at ML18292A592.

Dated at Rockville, Maryland, on November 13, 2018.
For the Nuclear Regulatory Commission.
Jennivine K. Rankin,
Acting Branch Chief, Licensing Branch 3, Division of Licensing, Siting, and Environmental Analysis, Office of New Reactors.

[FR Doc. 2018-25052 Filed 11-15-18; 8:45 am]

BILLING CODE 7590-01-P